SECURITIES AND EXCHANGE COMMISSION

[File No. 1-07598]

Issuer Delisting; Notice of Application of Varian Medical Systems, Inc. To Withdraw its Common Stock, $1.00 Par Value, and Associated Preferred Stock Purchase Rights, From Listing and Registration on the Pacific Exchange, Inc.

June 29, 2005.

On June 14,2005, Varian Medical Systems, Inc., a Delaware corporation (“Issuer”), filed an application with the Securities and Exchange Commission (“Commission”), pursuant to Section 12(d) of the Securities Exchange Act of 1934 (“Act”) ¹ and Rule 12d2-2(d) thereunder,² to withdraw its common stock, $1.00 par value, and associated preferred stock purchase rights (“Securities”), from listing and registration on the Pacific Exchange, Inc. (“PCX”).

¹ 15 U.S.C. 78l(d).

² 17 CFR 240.12d2-2(d).

On May 19, 2005, the Board of Directors (“Board”) of the Issuer approved resolutions to withdraw the Securities from listing and registration on PCX. The Issuer stated in its application that the Securities are listed on both the New York Stock Exchange, Inc. (“NYSE”) and PCX. The Issuer stated that the Board's reason for requesting withdrawal of the Securities is the belief by the Board and Issuer that the benefits of being listed on PCX's are outweighed by the added administrative burdens and expenses.

The Issuer stated in its application that it has complied with PCX rules by complying with all applicable laws in effect in the state of Delaware, the state in which the Issuer is incorporated, and by filing with PCX the required documents governing the withdrawal of securities from listing and registration on PCX.

The Issuer's application relates solely to the withdrawal of the Securities from listing on PCX and shall not affects continued listing on the NYSE or its obligation to be registered under Section 12(b) of the Act.³

³ 15 D.S.C. 781(b).

Any interested person may, on or before July 25,2005, comment on the facts bearing upon whether the application has been made in accordance with the rules of PCX, and what terms, if any, should be imposed by the Commission for the protection of investors. All comment letters may be submitted by either of the following methods:

Electronic Comments

• Use the Commission's Internet comment form (http://www.sec.gov/rules/delist.shtml); or

• Send an e-mail to rule-comments@sec.gov. Please include the File Number 1-07598 or;

Paper Comments

• Send paper comments in triplicate to Jonathan G. Katz, Secretary, Securities and Exchange Commission, 100 F Street NE., Washington, DC 20549-9303.

All submissions should refer to File Number 1-07598. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 05-13232 Filed 7-5-05; 8:45 am]

BILLING CODE 8010-01-M